DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 84 FR 34177-34184, dated July 17, 2019) is amended to reflect the reorganization of the National Center on Birth Defects and Developmental Disabilities, Deputy Director for Non-Infectious Diseases, Centers for Disease Control and Prevention. This reorganization will align budget lines and similar programmatic areas under the same divisions and branches.

I. Under Part C, Section C-B, Organization and Functions, the following organizational unit is deleted in its entirety:

• Developmental Disabilities Branch (CUBBD).

II. Under Part C, Section C-B, Organization and Functions, make the following changes:

• Update the functional state for the Office of the Director (CUB1).

• Update the functional statements for the Resource Management Office (CUB12).

• Retitle the Division of Congenital and Developmental Disorders (CUBB) to the Division of Birth Defects and Infant Disorders (CUBB) and update its functional statement.

• Update the functional statement for the Office of the Director (CUBB1).

• Retitle the Birth Defects Branch (CUBBB) to the Birth Defects Monitoring and Research Branch (CUBBB) and update its functional statement.

• Retitle the Prevention Research and Translation Branch (CUBBC) to the Infant Outcomes Monitoring, Research and Prevention Branch (CUBBC) and update its functional statement.

• Update the functional statement for the Division of Human Development and Disability (CUBC).

• Update the functional statement for the Child Development and Disability Branch (CUBCB).

• Retitle the Disability and Health Branch (CUBCC) to the Disability and Health Promotion Branch.

III. Under Part C, Section C-B, Organization and Functions, insert the following:

• Office of the Director (CUB1). (1) Directs, manages, and coordinates the activities of the NCBDDD; (2) develops goals and objectives; provides leadership, policy formulation, scientific oversight, and guidance in program planning and development; (3) coordinates NCBDDD program activities with other CDC components, federal agencies, state and local health agencies, business and industry, voluntary organizations, and community-based organizations; (4) coordinates technical assistance to states, other nations and international organizations; (5) coordinates with medical, scientific, and other professional organizations interested in birth defects prevention, pediatric genetics, developmental disabilities prevention, and disabilities and health, and prevention of complications of hereditary blood disorders; (6) advises the CDC Director on policy matters concerning NCBDDD activities; (7) oversees and coordinates the translation of scientific findings for health care providers, public health professionals, and the public on these conditions; (8) ensures NCBDDD produces the highest quality, most relevant and useful science possible; (9) oversees scientific clearance of NCBDDD documents and digital materials and coordinates cross-clearance of materials; (10) provides information and guidance to the staff regarding scientific issues and provides scientific leadership for the center; (11) provides ongoing communication leadership and support to NCBDDD's Office of the Director and divisions in furthering the Centers' mission; leads strategic planning for communications and branding of NCBDDD programs and projects; (12) leads and oversees news media strategy and evaluation; (13) facilitates clearance and cross-clearance of NCBDDD print and digital materials, ensuring adherence to CDC and Department of Health and Human Services (DHHS) information and publication policies; (14) reviews, prepares and coordinates policy and briefing documents; (15) conducts monitoring and analysis of policy issues potentially affecting NCBDDD and its constituents; and (16) provides information for the development of the NCBDDD's annual budget submission.

• Resource Management Office (CUB12). (1) Plans, coordinates, and provides administrative and management advice and guidance for NCBDDD; (2) provides and coordinates center-wide administrative, management, and support services in the areas of fiscal management, personnel, travel, procurement, facility management, and other administrative services; (3) prepares annual budget plans and budget justifications; (4) develops annual budget plans and budget justifications; (5) monitors NCBDDD spend plans to ensure ceiling levels are at or below specified levels; (6) coordinates NCBDDD requirements relating to contracts, grants, cooperative agreements, and reimbursable agreements; (7) develops and implements administrative policies, procedures, and operations, as appropriate, for NCBDDD, and prepares special reports and studies, as required, in the administrative management areas; and (8) maintains liaison with related staff offices and other officials of CDC on behalf of NCBDDD.

• Division of Birth Defects and Infant Disorders (CUBB). The Division of Birth Defects and Infant Disorders works to identify causes of birth defects and infant disorders through surveillance and public health research, and conducts prevention research and programs to improve health across the lifespan. This division: (1) Conducts epidemiological research to determine the causes and prevention of birth defects and developmental disabilities; (2) maintains and expands support for state-based surveillance; (3) evaluates the effectiveness of efforts to prevent birth defects and developmental disabilities; (4) conducts and disseminates findings of epidemiologic research, investigations, demonstrations, and programs directed toward the prevention of selected adverse reproductive outcomes that are environmentally related; (5) provides assistance to state and local health departments on community exposures to terotogenic, mutagenic, embryotoxic, other environmental agents, and genetic influences adversely interfering with normal growth and development; (6) conducts research and epidemiologic studies to develop intervention programs to reduce alcohol and other substance exposed pregnancies and monitors infant outcomes to identify and better understand the needs and develop interventions to improve the trajectory for substance exposed infants; (7) works closely with international organizations and entities in developing strategies and programs for reducing the number of birth defects and developmental disabilities; (8) develops and evaluates prevention strategies and provides training, technical consultation, and assistance to States and localities in developing their capacity for planning, establishing, and maintaining surveillance and prevention programs; (9) plans, develops, establishes, and maintains systems of surveillance including registries for monitoring, evaluating and disseminating information; (11) assists in increasing the capacity of states, localities, international organizations, and non-governmental organizations to prevent and control birth defects and developmental disabilities through training, technology transfer, grants, cooperative agreements, contracts, and other means; (12) provides information and education to the public; (13) provides services, consultation, technical assistance, and information to States, localities, other Federal agencies, international organizations, and other public and private organizations; (14) provides training in the epidemiology to professionals throughout the U.S. and abroad; and (15) collaborates and coordinates activities with other CIOs and HHS agencies.

• Office of the Director (CUBB1). (1) Manages, directs, and coordinates the research agenda and activities of the division; (2) provides leadership and guidance on strategic planning, policy, program and project priority planning and setting, program management, and operations; (3) establishes division goals, objectives, and priorities; (4) monitors progress in implementation of projects and achievement of objectives; (5) plans, allocates, and monitors resources; (6) provides management, administrative, and support services, and coordinates with appropriate NCBDDD offices on program and administrative matters; (7) provides liaison with other CDC organizations, other governmental agencies, international organizations, and other outside groups; (8) provides support for internal scientific advisory groups; (9) provides scientific leadership and guidance to the division to assure highest scientific quality and professional standards; and (10) researches, identifies and executes prevention messaging and interventions to reduce adverse birth outcomes.

• Birth Defects Monitoring and Research Branch (CUBBB). (1) Designs and conducts epidemiologic and genetic research to identify causes and risk factors of birth defects; (2) conducts and evaluates interventions to improve infant and child health by preventing or reducing the adverse consequences of birth defects; (3) designs and conducts surveillance of selected birth defects to identify rates, trends, and patterns of occurrence, and to evaluate the effectiveness of prevention programs; (4) disseminates findings of studies to the scientific and public health communities, and to the general public; (5) provides technical assistance to state and local agencies on surveillance of birth defects, epidemiologic research, prevention program design and evaluation, and prevention effectiveness research; (6) funds and coordinates grant and cooperative agreement programs and other extramural activities to improve the knowledge base for the prevention of birth defects through surveillance, epidemiologic research, and applies research of preventive interventions; (7) coordinates activities with other CDC functional units, HHS, other federal agencies, and appropriate private organizations regarding research and prevention programs for birth defects; (8) works with international organizations in developing strategies for the prevention of birth defects; and (9) disseminates findings of research through direct contact with health authorities, publication and distribution of special reports, publication in scientific and technical journals, conference presentations, and other appropriate means.

• Infant Outcomes Monitoring, Research and Prevention Branch (CUBBC). (1) Designs and conducts surveillance of preventable birth defects due to substance exposure during pregnancy, and emerging threats to mothers and babies; (2) identifies and monitors major preconception, prenatal and perinatal risks, and protective factors for fetal alcohol spectrum disorders (FASD) and other prenatal alcohol and substance-attributable conditions and other threats to mothers and their babies; (3) identifies rates, trends, and patterns of occurrence; (4) modifies the impact of prenatal exposures leading to adverse physical and developmental impairments in infants, children, and adults including integrating successful prevention programs into social and medical environments, and evaluating innovative, effective, and strategic health promotion programs; (5) develops, implements, evaluates, and disseminates education and communication interventions that lead to the prevention of birth defects and developmental disabilities; (6) disseminates findings of epidemiologic studies to the scientific and public health communities, and to the general public; (7) conducts prevention effectiveness research to evaluate interventions strategies for the prevention of birth defects and developmental disabilities; (8) provides technical assistance to state and local agencies on surveillance, epidemiologic research, prevention program design and evaluation, and prevention effectiveness research; (9) funds and coordinates grant and cooperative agreement programs and other extramural activities to improve the knowledge base for the prevention of birth defects and developmental disabilities through surveillance, epidemiologic research, and applies research of preventive interventions; (10) coordinates activities with other CDC functional units, HHS, other federal agencies and appropriate private organizations regarding research and prevention programs for birth defects and developmental disabilities; (11) works with international organizations in developing strategies for the prevention of birth defects and developmental disabilities; and (12) disseminates finding of research through direct contact with health authorities, publication and distribution of special reports, publication in scientific and technical journals, conference presentations, and other appropriate means.

• Division of Human Development and Disability (CUBC). The Division of Human Development and Disability works to help children and adults living with Autism, Attention Deficit Hyperactivity Disorder (ADHD), Tourette Syndrome (TS) and other developmental disabilities live to the fullest through better understanding developmental disabilities from early detection into adulthood. The division improves the health for children and adults with disabilities, in particular, people with mobility limitations, intellectual disability and hearing loss by informing disability health policy and practice, and dissemination of disability health inclusion resources. This division: (1) Designs and conducts surveillance of developmental disabilities to identify rates, trends, and patterns of occurrence, and to evaluate the effectiveness of prevention programs; (2) conducts epidemiologic studies of developmental disabilities to identify causes and risk factors for these conditions; (3) disseminates findings of epidemiologic studies to the scientific and public health communities and to the general public; (4) conducts applied research on public health aspects of normal and abnormal child development (e.g., early childhood, behavior problems in children); (5) conducts research on interventions to prevent adverse child developmental outcomes; (6) develops and disseminates information on public health aspects of normal and abnormal child development; (9) conducts, analyzes, and disseminates surveillance data to identify the distribution of disabilities in state populations; health conditions that occur with greater frequency among people with disabilities; and risk and protective behaviors compared to people without disabilities; (10) assists states and localities in developing their capacity for serving individuals with developmental and other disabilities (e.g., developing prevention strategies, providing training and technical consultation) to prevent secondary conditions; (11) collaborates with universities, federal, national, and state organizations to identify and address knowledge and research gaps in developmental health and disability; (12) collaborates with universities and other organizations to investigate environmental, social, and technological supports to promote inclusion; (13) develops programs that seek to identify health risks, protective factors and measure the effectiveness of health promotion activities for prevention of conditions related to disability; and (14) oversees and manages grants, cooperative agreements, contracts, and other funding instruments related to division programs.

• Child Development and Disability Branch (CUBCB). (1) Promotes optimal child development and early identification of children with developmental delays through assessing, developing, implementing, disseminating and supporting evidence-based practices, tools, and resources; (2) helps children and adults with autism, ADHD, TS and other developmental disabilities live to the fullest by understanding preventable risk factors, opportunities for early intervention, and the effects of these disorders throughout the lifespan; (3) designs and conducts surveillance of developmental disabilities to identify rates, trends, and patterns of occurrence, and to evaluate the effectiveness of prevention programs; (4) conducts epidemiologic studies of developmental disabilities to identify causes and risk factors for these conditions; (5) disseminates findings of epidemiologic studies to the scientific and public health communities and to the general public; (6) conducts prevention effectiveness research to evaluate interventions strategies for the prevention of developmental disabilities; (7) conducts epidemiologic studies to identify and describe specific conditions and long-term outcomes of developmental disabilities; (8) provides technical assistance to state and local agencies on surveillance of developmental disabilities, epidemiologic research, prevention program design and evaluation, and prevention effectiveness research; (9) provides scientific leadership and technical assistance in the development, application, improvement and evaluation of public health activities, systems, and interventions supporting optimal child development, including those with or at risk for disabilities; (10) coordinates and collaborates on recommendations for policy development at the federal and state levels and with the private sector to promote social participation and optimal child development, including those with or at risk for disabilities; (11) conducts research to expand the knowledge base related to optimal early development and health of children with or at risk of disabilities, and investigates costs and effectiveness of intervention programs and systems; (12) funds and coordinates grant and cooperative agreement programs and other extramural activities to improve the knowledge base for the prevention of developmental disabilities through surveillance, epidemiologic research, and applies research of preventive interventions; (13) coordinates activities with other CDC functional units, HHS, other federal agencies and appropriate private organizations regarding research and prevention programs for developmental disabilities; (14) collaborates with international organizations in developing strategies for the prevention of developmental disabilities; (15) disseminates findings of research through direct contact with health authorities, publication and distribution of special reports, publication in scientific and technical journals, conference presentations, and other appropriate means; and (16) provides training in the epidemiology of developmental disabilities to professionals throughout the United States and abroad.

• Disability and Health Promotion Branch (CUBCC). (1) Assists states and localities with the development, monitoring and evaluation of early hearing detection and intervention (EHDI) tracking and surveillance systems; (2) conducts research on etiology of hearing loss and associated disabilities, cost and effectiveness and long-term benefits of early identification and intervention (3) supports state-based disability and health promotion programs, national, and state organizations that promote and inform disability policy and practice, including assessing, developing, implementing, and disseminating disability inclusion models, tools, and resources; (4) collaborates with and provides technical assistance, consultation, and training to local, state, federal, and international agencies, universities and governmental and non-governmental organizations on disability and health related issues; (5) collaborates with local, state, federal, and international agencies, and appropriate governmental and non-governmental organizations to develop, review, and implement policies that advance the health of people with disabilities across the lifespan; (6) provides scientific leadership in the development, application, extension, and improvement of health surveillance and tracking systems related to disability and health; (7) conducts and supports both qualitative and quantitative research to expand the knowledge base related to disability and health across the lifespan; (8) disseminates information from surveillance and health services research, epidemiological research, health promotion and disease prevention strategies, and policies related to disability and health; (9) establishes collaborative partnerships with public and private organizations of national and international stature to promote the health of people with disabilities; (10) collaborates with funded non-governmental agencies to disseminate best practices, identify areas of need, facilitate development and distribution of educational materials, and provide informational resources to states and affected populations and their caregivers; and (11) provides leadership in health promotion and disease prevention across the lifespan for individuals with disabilities.

IV. Delegations of Authority: All delegations and redelegations of authority made to officials and employees of affected organizational components will continue in them or their successors pending further redelegation, provided they are consistent with this reorganization.

(Authority: 44 U.S.C. 3101)

Alex M. Azar II,
Secretary.

[FR Doc. 2019-15691 Filed 7-23-19; 8:45 am]

BILLING CODE 4163-18-P